NATIONAL SECURITY COMMISSION ON ARTIFICIAL INTELLIGENCE

[Docket No.: 09-2020-02]

National Security Commission on Artificial Intelligence; Notice of Federal Advisory Committee Meeting

AGENCY: National Security Commission on Artificial Intelligence.

ACTION: Notice of Federal Advisory Committee virtual public meeting.

SUMMARY: The National Security Commission on Artificial Intelligence (the “Commission”) is publishing this notice to announce that the following Federal Advisory Committee virtual public meeting will take place.

DATES: Thursday, October 8, 2020, 1:00 p.m. to 3:30 p.m. Eastern Standard Time (EST).

FOR FURTHER INFORMATION CONTACT: Ms. Angela Ponmakha, 703-614-6379 (Voice), nscai-dfo@nscai.gov. Mailing address: Designated Federal Officer, National Security Commission on Artificial Intelligence, 2530 Crystal Drive, Box 45, Arlington, VA 22202. website: https://www.nscai.gov. The most up-to-date information about the meeting and the Commission can be found on the website.

SUPPLEMENTARY INFORMATION: This meeting is being held under the provisions of the Federal Advisory Committee Act (FACA) (5 U.S.C., Appendix), the Government in the Sunshine Act (5 U.S.C. 552b), and 41 CFR 102-3.140 and 102-3.150.

Purpose of the Meeting: The John S. McCain National Defense Authorization Act for Fiscal Year 2019 (FY19 NDAA), Sec. 1051, Public Law 115-232, 132 Stat. 1636, 1962-65 (2018), created the Commission to “consider the methods and means necessary to advance the development of artificial intelligence, machine learning, and associated technologies by the United States to comprehensively address the national security and defense needs of the United States.” The Commission will consider potential recommendations to Congress and the Executive Branch.

Agenda: The meeting will begin on October 8, 2020 at 1:00 p.m. EST with opening remarks by the Designated Federal Officer, Ms. Angela Ponmakha; the Executive Director, Mr. Yll Bajraktari; the Commission Chair, Dr. Eric Schmidt; and the Commission Vice Chair, Robert Work. Chairs of the working groups studying each of the Commission's lines of effort (LOEs) will present the recommendations from their respective LOEs for consideration by the entire Commission. The Commission's LOEs: LOE 1—Invest in AI Research & Development and Software; LOE 2—Apply AI to National Security Missions; LOE 3—Train and Recruit AI Talent; LOE 4—Protect and Build Upon U.S. Technological Advantages & Hardware; LOE 5—Marshal Global AI Cooperation; LOE 6—Ethics and Responsible AI; and LOE 7—Threat Analysis and Response Actions.

The Commission will deliberate on the presented recommendations and vote on their inclusion in the Commission's interim report to Congress and the Administration. The meeting will adjourn at 3:30 p.m. EST.

Meeting Accessibility: Pursuant to Federal statutes and regulations (the FACA, the Sunshine Act, and 41 CFR 102-3.140 through 102-3.165) and the availability of space, the virtual meeting is open to the public from 1:00 p.m. to 3:30 p.m. EST. Members of the public wishing to receive a link to the live stream webcast for viewing and audio access to the virtual meeting should register on the Commission's website, https://www.nscai.gov. Registration will be available from September 25, 2020 through October 5, 2020. Members of the media should RSVP to the Commission's press office at press@nscai.gov.

Special Accommodations: Individuals requiring special accommodations to access the public meeting should contact the DFO, see the FOR FURTHER INFORMATION CONTACT section for contact information, no later than October 5, 2020, so that appropriate arrangements can be made.

Access to Records of the Meeting: Pursuant to FACA requirements, the meeting materials for the October 8, 2020 virtual meeting will be available for public inspection on the Commission's website at https://www.nscai.gov on October 5, 2020.

Written Statements: Written comments may be submitted to the DFO via email to: nscai-dfo@nscai.gov in either Adobe Acrobat or Microsoft Word format. The DFO will compile all written submissions and provide them to the Commissioners for consideration. Please note that all submitted comments will be treated as public documents and will be made available for public inspection, including, but not limited to, being posted on the Commission's website.

Dated: September 18, 2020.
Michael Gable,
Chief of Staff.

[FR Doc. 2020-21021 Filed 9-22-20; 8:45 am]

BILLING CODE 3610-Y8-P